DEPARTMENT OF AGRICULTURE

Grain Inspection, Packers and Stockyards Administration

7 CFR Part 868

United States Standards for Milled Rice; Correction

AGENCY: Grain Inspection, Packers and Stockyards Administration, USDA.

ACTION: Direct final rule; correction.

SUMMARY: The Grain Inspection, Packers and Stockyards Administration published a Direct final rule in the Federal Register revising the United States Standards for Milled rice to establish and add a new level of milling degree, “hard milled,” to the existing milling requirements, and to eliminate reference to “lightly milled” from the milling requirements of U.S. Standards for Milled Rice.

FOR FURTHER INFORMATION CONTACT: John Giler, (202) 720-0252.

Correction

In the Federal Register of September 30, 2002 (67 FR 61249), make the following corrections to the Effective Date section of the SUPPLEMENTARY INFORMATION, first column, last paragraph on page 61250:

1. Remove “June 30, 2002”, and add “October 31, 2002” in its place.

2. Remove “August 1, 2002”, and add “December 1, 2002” in its place.

Dated: October 2, 2002.
Donna Reifschneider,
Administrator, Grain Inspection, Packers and Stockyards Administration.

[FR Doc. 02-25432 Filed 10-4-02; 8:45 am]

BILLING CODE 3410-EN-P